DEPARTMENT OF COMMERCE

National Oceanic and Atmospheric Administration

Federal Consistency Appeal by Irizarry Garcia From an Objection by the Puerto Rico Planning Board

AGENCY: National Oceanic and Atmospheric Administration (NOAA), Department of Commerce (Commerce).

ACTION: Notice of appeal and request for comments.

SUMMARY: This announcement provides notice that Irizarry Garcia has filed an administrative appeal with the Department of Commerce asking that the Secretary override the Puerto Rico Planning Board's objection to a consistency certification prepared in conjunction with the proposed reconstruction of a private pier.

DATES: Public and Federal agency comments on the appeal are due within 30 days of the publication of this notice.

ADDRESSES: All e-mail comments on issues relevant to the Secretary's decision in this appeal may be submitted to garcia.comments@noaa.gov. Comments may also be sent by mail to Jennifer Nist, Deputy Assistant General Counsel for Ocean Services, National Oceanic and Atmospheric Administration, U.S. Department of Commerce, 1305 East-West Highway, Room 6111, Silver Spring, MD 20910. Materials from the appeal record will be available at the NOAA Office of the General Counsel for Ocean Services. In addition, public filings made by the parties to the appeal will be available at the offices of the Puerto Rico Planning Board.

FOR FURTHER INFORMATION CONTACT: Jennifer Nist, Deputy Assistant General Counsel for Ocean Services, NOAA Office of the General Counsel, 301-713-2967.

SUPPLEMENTARY INFORMATION:

I. Notice of Appeal

Irizarry Garcia has filed a notice of appeal with the Secretary of Commerce pursuant to the Coastal Zone Management Act of 1972 (CZMA), 16 U.S.C. 1451 et seq., and implementing regulations found at 15 CFR part 930, Subpart H. Mr. Garcia appealed an objection raised by the Puerto Rico Planning Board to a consistency certification contained within his application to the U.S. Army Corps of Engineers for a permit necessary to reconstruct a private pier. The Appellant requests that the Secretary override the State's consistency objection on the basis that the proposed activity is “consistent with the objectives” of the CZMA. To make this determination, the Secretary must find that: (1) The proposed activity furthers the national interest as articulated in section 302 or 303 of the CZMA, in a significant or substantial manner; (2) the adverse effects of the proposed activity do not outweigh its contribution to the national interest, when those effects are considered separately or cumulatively; and (3) no reasonable alternative is available that would permit the activity to be conducted in a manner consistent with enforceable policies of Puerto Rico's management program. 15 CFR 930.121.

II. Public and Federal Agency Comments

Written public comments are invited on any of the issues that the Secretary must consider in deciding this appeal. Comments must be received within 30 days of the publication of this notice, and may be submitted by e-mail to garcia.comments@noaa.gov. Comments may also be sent to Jennifer Nist, Deputy Assistant General Counsel for Ocean Services, NOAA Office of the General Counsel, National Oceanic and Atmospheric Administration, U.S. Department of Commerce, 1305 East-West Highway, Room 6111, Silver Spring, MD 20910. Comments will be made available to the Appellant and the State.

III. Appeal Documents

NOAA intends to provide the public with access to all materials and related documents comprising the appeal record during business hours, at the NOAA Office of the General Counsel for Ocean Services. In addition, copies of public filings by the parties will be available for review at the offices of the Puerto Rico Planning Board.

For additional information about this appeal contact Jennifer Nist, 301-713-2967.

Dated: August 30, 2005.
Jane H. Chalmers,
General Counsel.

[FR Doc. 05-17828 Filed 9-7-05; 8:45 am]

BILLING CODE 3510-08-M